DEPARTMENT OF THE INTERIOR

Bureau of Land Management

[OR-130-1020-AL; GP8-0034]

Notice of Public Meeting, Eastern Washington Resource Advisory Council Meeting

AGENCY: Bureau of Land Management, U.S. Department of the Interior.

ACTION: Notice of public meeting.

SUMMARY: In accordance with the Federal Land Policy and Management Act of 1976 and the Federal Advisory Committee Act of 1972, the U.S. Department of the Interior, Bureau of Land Management (BLM) Eastern Washington Resource Advisory Council will meet as indicated below.

DATES: Thursday, January 17, 2008, at the BLM Spokane District Office, 1103 N. Fancher Rd., Spokane Valley, WA 99212.

SUPPLEMENTARY INFORMATION: The meeting will start at 9 a.m., end at approximately 3 p.m. The meeting will be open to the public and there will be an opportunity for public comments at 2:30 p.m. Discussion will focus on the status of projects of interest and identification of topics for future meetings.

FOR FURTHER INFORMATION CONTACT: Scott Pavey or Sandie Gourdin, BLM, Spokane District, 1103 N. Fancher Rd., Spokane Valley, WA 99212, or call (509) 536-1200.

Dated: December 7, 2007.
Robert B. Towne,
District Manager.

[FR Doc. E7-24136 Filed 12-12-07; 8:45 am]

BILLING CODE 4310-33-P